DEPARTMENT OF HEALTH AND HUMAN SERVICES

National Institutes of Health

National Heart, Lung, and Blood Institute, Amended Notice of Meeting

Notice is hereby given of a change in the meeting of the Sleep Disorders Research Advisory Board, April 7, 2022, 12:00 p.m. to 5:00 p.m., Virtual Meeting, which was published in the Federal Register on March 09, 2022, V 87 Vol. 46, Page 13302, FR Doc No. 2022-04982.

Meeting is being amended to change the telephone call in number to 1-669-254-5252 (Meeting ID: 161 532 8417 Passcode: 330488). The meeting is open to the public.

Dated: March 22, 2022.
David W. Freeman,
Program Analyst, Office of Federal Advisory Committee Policy.

[FR Doc. 2022-06433 Filed 3-25-22; 8:45 am]

BILLING CODE 4140-01-P